NATIONAL FOUNDATION ON THE ARTS AND THE HUMANITIES

National Endowment for the Arts

Arts Advisory Panel Meetings

AGENCY: National Endowment for the Arts.

ACTION: Notice of meetings.

SUMMARY: Pursuant to the Federal Advisory Committee Act, as amended, notice is hereby given that 13 meetings of the Arts Advisory Panel to the National Council on the Arts will be held by teleconference or videoconference.

DATES: See the SUPPLEMENTARY INFORMATION section for individual meeting times and dates. All meetings are Eastern time and ending times are approximate.

ADDRESSES: National Endowment for the Arts, Constitution Center, 400 7th St. SW, Washington, DC 20506.

FOR FURTHER INFORMATION CONTACT: Further information with reference to these meetings can be obtained from Ms. Sherry P. Hale, Office of Guidelines & Panel Operations, National Endowment for the Arts, Washington, DC 20506; hales@arts.gov, or call 202/682-5696.

SUPPLEMENTARY INFORMATION: The closed portions of meetings are for the purpose of Panel review, discussion, evaluation, and recommendations on financial assistance under the National Foundation on the Arts and the Humanities Act of 1965, as amended, including information given in confidence to the agency. In accordance with the determination of the Chairman of September 10, 2019, these sessions will be closed to the public pursuant to subsection (c)(6) of section 552b of title 5, United States Code.

The upcoming meetings are:

Literary Arts (review of applications): This meeting will be closed.

Date and time: August 4, 2020; 1:00 p.m. to 3:00 p.m.

Presenting and Multidisciplinary Works (review of applications): This meeting will be closed.

Date and time: August 4, 2020; 2:00 p.m. to 4:00 p.m.

Literary Arts (review of applications): This meeting will be closed.

Date and time: August 5, 2020; 1:00 p.m. to 3:00 p.m.

Presenting and Multidisciplinary Works (review of applications): This meeting will be closed.

Date and time: August 5, 2020; 2:00 p.m. to 4:00 p.m.

Presenting and Multidisciplinary Works (review of applications): This meeting will be closed.

Date and time: August 6, 2020; 2:00 p.m. to 4:00 p.m.

Presenting and Multidisciplinary Works (review of applications): This meeting will be closed.

Date and time: August 7, 2020; 2:00 p.m. to 4:00 p.m.

Folk and Traditional Arts (review of applications): This meeting will be closed.

Date and time: August 10, 2020; 1:00 p.m. to 3:00 p.m.

Folk and Traditional Arts (review of applications): This meeting will be closed.

Date and time: August 11, 2020; 1:00 p.m. to 3:00 p.m.

Artist Communities (review of applications): This meeting will be closed.

Date and time: August 12, 2020; 2:00 p.m. to 4:00 p.m.

Folk and Traditional Arts (review of applications): This meeting will be closed.

Date and time: August 13, 2020; 1:00 p.m. to 3:00 p.m.

Artist Communities (review of applications): This meeting will be closed.

Date and time: August 14, 2020; 2:00 p.m. to 4:00 p.m.

Theater (review of applications): This meeting will be closed.

Date and time: August 25, 2020; 1:00 p.m. to 3:00 p.m.

Literature Fellowships (review of applications): This meeting will be closed.

Date and time: September 16, 2020; 1:00 p.m. to 3:00 p.m.

Dated: July 15, 2020.
Sherry P. Hale,
Staff Assistant, National Endowment for the Arts.

[FR Doc. 2020-15618 Filed 7-17-20; 8:45 am]

BILLING CODE 7537-01-P